DEPARTMENT OF COMMERCE

International Trade Administration

[A-489-807]

Certain Steel Concrete Reinforcing Bars from Turkey: Notice of Court Decision Not In Harmony with Final Results of Administrative Review

AGENCY: Import Administration, International Trade Administration, Department of Commerce.

SUMMARY: On March 13, 2006, the United States Court of International Trade (the Court) sustained the final remand redetermination made by the Department of Commerce (the Department) pursuant to the Court's remand of the final results of the 2002-2003 administrative review of certain steel concrete reinforcing bars from Turkey. See Colakoglu Metalurji A.S. v. United States, Court No. 04-00621, Slip Op. 06-36 (CIT Mar.13, 2006) (Colakoglu Remand). This case arises out of the Department's Certain Steel Concrete Reinforcing Bars From Turkey; Final Results, Rescission of Antidumping Duty Administrative Review in Part, and Determination Not To Revoke in Part, 69 FR 64731 (Nov. 8, 2004) (Final Results). The final judgment in this case was not in harmony with the Department's November 2004 Final Results.

EFFECTIVE DATE: March 24, 2006.

FOR FURTHER INFORMATION CONTACT: Irina Itkin or Alice Gibbons, AD/CVD Operations, Office 2, Import Administration, International Trade Administration, U.S. Department of Commerce, 14th Street and Constitution Avenue, NW, Washington, DC, 20230; telephone (202) 482-0656 or (202) 482-0498, respectively.

SUPPLEMENTARY INFORMATION: In Colakoglu Metalurji A.S. v. United States, 394 F. Supp. 2d 1379 (CIT 2005), the Court remanded the Department's determination in the final results for further review based on the Department's request to reconsider what constitutes the appropriate U.S. date of sale for Colakoglu Metalurji A.S. and Colakoglu Dis Ticaret (collectively “Colakoglu”), a Turkish exporter/producer of subject merchandise.

On November 18, 2005, the Department issued the draft results of redetermination pursuant to remand (draft results) for comment by interested parties. In the draft results, the Department explained that upon reconsideration of the date-of-sale methodology used for Colakoglu, it found that the material terms of sale for Colakoglu's U.S. sales were established at the “order” date. Therefore, the Department stated that it would recalculate the margin using Colakoglu's reported “order” date as the date of sale.

On November 28, 2005, the Department received comments on the draft results from Gerdau AmeriSteel Corporation, Commercial Metals Company (SMI Steel Group), and Nucor Corporation (collectively “the petitioners”). On November 30, 2006, the Department received rebuttal comments from Colakoglu. On January 13, 2006, the Department issued its final results of redetermination pursuant to remand to the Court. After analyzing the comments submitted by interested parties, we continued to find that the appropriate date of sale for Colakolgu's U.S. sales for the time period in question was the “order” date. Accordingly, Colakoglu's antidumping duty margin percentage for the 2002-2003 period of review is 4.91 percent.

On March 13, 2006, the Court found that the Department complied with the Court's remand order and sustained the Department's remand redetermination. See Colakoglu Remand.

Timken Notice

In its decision in Timken Co., v. United States, 893 F.2d 337, 341 (Fed. Cir. 1990) (Timken), the United States Court of Appeals for the Federal Circuit held that, pursuant to section 516A(e) of the Tariff Act of 1930, as amended (the Act), the Department must publish a notice of a court decision that is not “in harmony” with a Department determination, and must suspend liquidation of entries pending a “conclusive” court decision. The Court's decision in Colakoglu Remand on March 13, 2006, constitutes a final decision of that court that is not in harmony with the Department's final results in the 2002-2003 administrative review of certain steel concrete reinforcing bars from Turkey. This notice is published in fulfillment of the publication requirements of Timken. Accordingly, the Department will continue the suspension of liquidation of the subject merchandise pending the expiration of the period of appeal, or, if appealed, pending a final and conclusive court decision.

This notice is issued and published in accordance with section 516A(c)(1) of the Act.

Dated: March 20, 2006.
David M. Spooner,
Assistant Secretary for Import Administration.

[FR Doc. E6-4311 Filed 3-23-06; 8:45 am]

BILLING CODE 3510-DS-S